DEPARTMENT OF DEFENSE

Office of the Secretary

[Docket ID DOD-2009-HA-0018]

Privacy Act of 1974; System of Records

AGENCY: Uniformed Services University of the Health Sciences, DoD.

ACTION: Notice to amend a system of records notice.

SUMMARY: The Office of the Secretary of Defense is amending a system of records notice in its existing inventory of record systems subject to the Privacy Act of 1974 (5 U.S.C. 552a), as amended.

DATES: This proposed action will be effective without further notice on March 12, 2009 unless comments are received which result in a contrary determination.

ADDRESSES: Send comments to the Privacy Act Officer, Office of Freedom of Information, Washington Headquarters Services, 1155 Defense Pentagon, Washington, DC 20301-1155.

FOR FURTHER INFORMATION CONTACT: Mrs. Cindy Allard at (703) 588-6830.

SUPPLEMENTARY INFORMATION: The Office of the Secretary of Defense systems of records notices subject to the Privacy Act of 1974 (5 U.S.C. 552a), as amended, have been published in the Federal Register and are available from the address above.

The specific changes to the record systems being amended are set forth below followed by the notice, as amended, published in its entirety. The proposed amendments are not within the purview of subsection (r) of the Privacy Act of 1974 (5 U.S.C. 552a), as amended, which requires the submission of a new or altered system report.

Dated: February 4, 2009.
Morgan E. Frazier,
Alternate OSD Federal Register Liaison Officer, Department of Defense.

WUSU 03

System name:

Uniformed Services University of the Health Sciences (USUHS) Student Records (February 16, 1995, 60 FR 9016).

Changes:

* * * * *

Authorities for maintenance of the system:

Delete entry and replace with “10 U.S.C. 2114, Student; selection; status; obligation and E.O. 9397 (SSN).”

Purpose(s):

Delete entry and replace with “Provides academic data to each student upon request, e.g., transcripts, individual course grades, grade point average, etc.; providing academic data within the Uniformed Services University of the Health Sciences for official use only purposes; and providing data to the respective Surgeon General when a specific and authorized need requires it.”

* * * * *

Storage:

Delete entry and replace with “Paper records in file folders and electronic storage media.”

Retrievability:

Delete entry and replace with “By individual's name and Social Security Number (SSN).”

Safeguards:

Delete entry and replace with “The computer facility at the USUHS is operated by the Office of the Registrar. The tapes and hard copies of material are secured in government-approved security containers constructed of four-hour heat-resistant steel material. The physical location of the computer hardware, disks, and printer are located to the extreme rear of the room with access being blocked by a large counter staffed by two office personnel. All access to the computers in the Office of the Registrar is via user identification and sign-on password. Computer software ensures that only properly identified users can access the Privacy Act files on this system. Passwords are changed when notified by University Information Systems, or upon departure of any person knowing the password.”

* * * * *

System manager(s) and address:

Delete and replace with “Assistant Vice President for Academic Records, The Registrar, Uniformed Services University of the Health Sciences, 4301 Jones Bridge Road, Bethesda, MD 20814-4799.”

Notification procedure:

Delete first paragraph and replace with “Individuals seeking to determine whether information about themselves is contained in this system should address written inquiries to the Registrar, Uniformed Services University of the Health Sciences, 4301 Jones Bridge Road, Bethesda, MD 20814-4799.

Requests should contain individuals name, Social Security Number (SSN) and dates attended.”

Record access procedures:

Delete first paragraph and replace with “Individuals seeking access to information about themselves contained in this system should address written inquiries to the OSD/JS FOIA Requester Service Center, 1155 Defense Pentagon, Washington, DC 20301-1155.

Written requests should include name, Social Security Number (SSN) and dates attended.”

* * * * *

WUSU 03

System name:

Uniformed Services University of the Health Sciences (USUHS) Student Records

System location:

The file will be maintained in the Registrar's Office, USUHS, 4301 Jones Bridge Road, Bethesda, MD 20814-4799. Supplemental files consisting of student evaluation forms, grades, and course examinations pertaining to their Department will be maintained in each department by department chairperson, as well as in the Registrar's office.

Categories of individuals covered by the system:

Records will be maintained on all students who matriculate to the University.

Categories of records in the system:

Grade reports and instructor evaluations of performance/achievement; transcripts summarizing by course title, grade, and credit hours; records of awards, honors, or distinctions earned by students; and data carried forward from the Applicant File System, which includes records containing personal data, e.g., name, rank, Social Security Number, undergraduate school, academic degree(s), current addresses, course grades, and grade point average from undergraduate work and other information as furnished by non-Government agencies such as the American Medical College Admission Service which certifies all information prior to being submitted to the University.

Authority for maintenance of the system:

10 U.S.C. 2114, Student; selection; status; obligation and E.O. 9397 (SSN).

Purpose(s):

Provides academic data to each student upon request, e.g., transcripts, individual course grades, grade point average, etc.; providing academic data within the Uniformed Services University of the Health Sciences for official use only purposes; and providing data to the respective Surgeon General when a specific and authorized need is required.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Academic data may be provided to other educational institutions upon the written request of a student.

The “Blanket Routine Uses” set forth at the beginning of the USUHS' compilation of systems of records notices apply to this system.

Policies and practices for storing, retrieving, accessing, retaining, and disposing of records in the system:

Storage:

Paper records in file folders and electronic storage media.

Retrievability:

By individual's name and Social Security Number (SSN).

Safeguards:

The computer facility at the USUHS is operated by the Office of the Registrar. The tapes and hard copies of material are secured in government-approved security containers constructed of four-hour heat-resistant steel material. The physical location of the computer hardware, disks, and printer are located to the extreme rear of the room with access being blocked by a large counter staffed by two office personnel. All access to the computers in the Office of the Registrar is via user identification and sign-on password. Computer software ensures that only properly identified users can access the Privacy Act files on this system. Passwords are changed when notified by University Information Systems, or upon departure of any person knowing the password.

Retention and disposal:

Files are closed upon Graduation, Transfer, Withdrawal, or Death of student. Records are held in USUHS current file area for 20 years. Retire records to the Washington National Records Center. Records will be destroyed in accordance with the Privacy Act when 50 years old.

System manager(s) and address:

Assistant Vice President for Academic Records, The Registrar, Uniformed Services University of the Health Sciences, 4301 Jones Bridge Road, Bethesda, MD 20814-4799.

Notification procedure:

Individuals seeking to determine whether information about themselves is contained in this system should address written inquiries to the Registrar, Uniformed Services University of the Health Sciences, 4301 Jones Bridge Road, Bethesda, MD 20814-4799.

Requests should contain individuals name, Social Security Number (SSN) and dates attended.

Record access procedures:

Individuals seeking access to information about themselves contained in this system should address written inquiries to the OSD/JS FOIA Requester Service Center, 1155 Defense Pentagon, Washington, DC 20301-1155.

Written requests should include name, Social Security Number (SSN) and dates attended.

Contesting record procedures:

The rules for accessing records, for contesting contents and appealing initial agency determinations are published in OSD Administrative Instruction 81; 32 CFR part 315; or may be obtained from the system manager.

Record source categories:

Information is furnished by instructor personnel, the individual concerned; the National Board of Medical Examiners; and the Applicant File System.

Exemptions claimed for the system:

None.

[FR Doc. E9-2762 Filed 2-9-09; 8:45 am]

BILLING CODE 5001-06-P